DEPARTMENT OF STATE

[Public Notice:11040]

U.S. Department of State Advisory Committee on Private International Law: Notice of Annual Meeting

The Department of State's Advisory Committee on Private International Law (ACPIL) will hold its annual meeting on Friday, April 17, 2020 in Washington, DC. The meeting will be held at the George Washington University (GWU) Law School, 2023 G St. NW, Room 201, Washington, DC 20006. The program is scheduled to run from 8:30 a.m. to 4:00 p.m.

The meeting will include a “Live from L/PIL” event at which we will discuss major developments in private international law over the past year, including the finalization of the Convention on the Recognition and Enforcement of Foreign Judgments and the Singapore Convention on Mediation. ACPIL meeting topics will include discussions on the direct jurisdiction and parentage projects under consideration at the Hague Conference on Private International Law. We will also be seeking input from members on possible future projects for the United Nations Commission on International Trade Law (UNCITRAL) and United Nations International Institute for Unification of Private Law (UNIDROIT).

Persons planning to attend the meeting should contact pil@state.gov as soon as possible. The meeting is open to the public up to the capacity of the conference facility, and seating will be reserved based upon when persons contact pil@state.gov. Those planning to attend should provide their name, affiliation and contact information to pil@state.gov. A member of the public needing reasonable accommodation should notify pil@state.gov not later than April 10, 2020. Requests made after that date will be considered but might not be able to be fulfilled. A more detailed agenda will be available via email as the meeting approaches to all who indicate their intent to attend. Persons who wish to have their views considered are encouraged, but not required, to submit written comments in advance. Those who are unable to attend are also encouraged to submit written views. Comments should be sent electronically to pil@state.gov.

Sharla Draemel,
Attorney-Adviser, Office of Private International Law, Office of the Legal Adviser, Department of State.

[FR Doc. 2020-03200 Filed 2-18-20; 8:45 am]

BILLING CODE 4710-08-P